DEPARTMENT OF THE TREASURY

Internal Revenue Service

Privacy Act of 1974, as Amended; System of Records

AGENCY: Internal Revenue Service, Treasury.

ACTION: Notice of Proposed New Privacy Act System of Records.

SUMMARY: In accordance with the requirements of the Privacy Act of 1974, as amended, 5 U.S.C. 552a, the Department of the Treasury, Internal Revenue Service, gives notice of a proposed new system of records entitled “Treasury/IRS 00.009—Taxpayer Assistance Center (TAC) Recorded Quality Review Records.”

DATES: Comments must be received no later than March 28, 2005. This new system of records will be effective April 5, 2005 unless the IRS receives comments that would result in a contrary determination.

ADDRESSES: Comments should be sent to the Office of Governmental Liaison and Disclosure, Internal Revenue Service, 1111 Constitution Avenue, NW., Washington, DC 20224. Comments will be made available for inspection and copying upon request in the Freedom of Information Reading Room (Room 1621), at the above address.

FOR FURTHER INFORMATION CONTACT: Buz Dereniuk, Territory Manager, W: CAR: FA, 777 Sonoma Ave., Room 112, Santa Rosa, California 95404, (707) 523-4673 (ext 254) (not a toll free number).

SUPPLEMENTARY INFORMATION: Without an effective quality review system, the IRS cannot be assured that its employees are providing correct answers to taxpayer questions. Currently Taxpayer Assistance Center (TAC) Managers monitor employees by occasionally sitting with them and observing the taxpayer interaction. This produces an artificial environment that does not give a true representation of employee performance, training needs, and taxpayer service abilities. A November 22, 2002, Treasury Inspector General for Tax Administration (TIGTA) review, available at http://www.ustreas.gov/tigta/2003reports/200340023fr.html, recommended that the Commissioner, Wage and Investment (W&I) Division, explore options such as planned remote monitoring (a.k.a. contact recording) by TAC managers for conducting quality reviews of TAC employees on a regular basis. Contact recording would remove advance notice of a manager's review, and the intrusion of the manager being physically present during the contact. It will capture an accurate recordation of employees' interaction with taxpayers in a more natural and realistic setting. The automated contact recording system will allow the IRS to improve the quality of responses to taxpayers by providing an efficient and effective means of assessing employee performance. Managers will review any audio recordings and captured computer screen images and document their evaluations of employee performances. Managers and employees may review the audio recordings and captured computer screen images when evaluating employee contacts with taxpayers. Each manager can only access records of contacts by employees under that manager's supervision. Quality reviewers will review records of contacts for purposes of identifying issues or topics about which many Taxpayer Response Representatives (TRR) would benefit from additional training, and to determine program-wide accuracy rates of information provided.

The ability to select any contact for review purposes will result in greater fairness and timeliness of reviews of employees, the ability to sample employee performance nationwide, and improved quality of assistance to taxpayers. Also, in cases where managers are not in the same location as their employees, the time and expense of travel will be significantly reduced. By recording taxpayer contacts and tracking employee actions, the IRS will be able to improve its service to the public by providing specific, tangible feedback to employees. As a result, targeted training will be provided to employees either on-line or in one-on-one coaching sessions.

Taxpayers will be notified by signs clearly posted at the TAC entry and on workstations of TRRs that their contacts may be recorded for quality improvement purposes. Taxpayers may opt out of being recorded by notifying the IRS employee. If so notified, the employee will stop any recording and will continue to assist the taxpayer. Audio recordings and captured computer screen images will be kept long enough for employee evaluation and quality review, generally not more than 45 days. However, the agency may keep audio recordings and captured computer screen images for a longer period under certain circumstances, including, but not limited to, resolution of matters pertaining to employee performance, security (threat, altercation, etc.), or conduct-related issues.

The new system of records report, as required by 5 U.S.C. 552a(r) of the Privacy Act, has been submitted to the Committee on Government Reform of the House of Representatives, the Committee on Governmental Affairs of the Senate, and the Office of Management and Budget, pursuant to Appendix I to OMB Circular A-130, “Federal Agency Responsibilities for Maintaining Records About Individuals,” dated November 30, 2000.

The proposed new system of records entitled “Treasury/IRS 00.009—Taxpayer Assistance Center (TAC) Recorded Quality Review Records” is published in its entirety below.

Dated: February 15, 2005.
Arnold I. Havens,
General Counsel.

Treasury/IRS 00.009

System Name:

Taxpayer Assistance Center (TAC) Recorded Quality Review Records—Treasury/IRS

System Location:

Records in this system of records will eventually be located at every Taxpayer Assistance Center (TAC). An up-to-date list of these sites is available on-line at: http://www.irs.gov/localcontacts/index.html.

Categories of Individuals Covered by the System:

IRS employees who respond to taxpayer assistance contacts in person.

Categories of Records in the System:

Audio recordings of conversations with taxpayers, captured computer screen images of taxpayer records reviewed by Taxpayer Response Representatives during the conversation, and associated records required to administer IRS quality review and employee performance feedback programs.

Authority for Maintenance of the System:

5 U.S.C. 301; 26 U.S.C. 7801 and 7803.

Purpose:

Records in this system of records are used to evaluate and improve employee performance and the quality of service at Taxpayer Assistance Centers.

Routine Uses of Records Maintained in the System, Including Categories of Users and the Purposes of Such Uses:

Disclosure of returns and return information may be made only as provided by 26 U.S.C. 6103. Records other than returns and return information may be used to:

(1) Disclose information during a proceeding before a court, administrative tribunal, or other adjudicative body when: (a) The IRS or any component thereof, (b) any IRS employee in his or her official capacity, (c) any IRS employee in his or her personal capacity where the IRS or the Department of Justice has agreed to provide representation for the employee, or (d) the United States is a party to, has an interest in, or is likely to be affected by, such proceeding, and the IRS (or its DOJ counsel) determines that the information is relevant and necessary to the proceeding and no privilege is asserted. Information may also be disclosed to the neutral to resolve issues of relevancy, necessity, or privilege pertaining to the information.

(2) Disclose information to the Department of Justice when seeking legal advice or for use in any proceeding, or in preparation for any proceeding, when: (a) The IRS or any component thereof, (b) any IRS employee in his or her official capacity, (c) any IRS employee in his or her individual capacity under circumstances in which the IRS or the Department of Justice has agreed to provide representation for the employee, or (d) the United States government is a party to the proceeding or has an interest in such proceeding, and the IRS (or its DOJ counsel) determines that the records are both relevant and necessary to the proceeding or advice sought.

(3) Disclose information to a contractor to the extent necessary for the performance of a contract.

(4) Disclose to an appropriate Federal, State, local, tribal, or foreign agency, or other public authority, responsible for implementing or enforcing, or for investigating or prosecuting the violation of, a statute, rule, regulation, order, or license, when a record on its face, or in conjunction with other records, indicates a violation or potential violation of law or regulation and the information disclosed is relevant to any regulatory, enforcement, investigative, or prosecutorial responsibility of the receiving authority.

(5) Disclose information to officials of labor organizations recognized under 5 U.S.C. Chapter 71 when relevant and necessary to their duties of exclusive representation, and no privilege is asserted.

(6) Disclose information to an arbitrator, mediator, or similar person, and to the parties, in the context of alternative dispute resolution, to the extent relevant and necessary to permit the arbitrator, mediator, or similar person to resolve the matters presented, including asserted privileges.

(7) Disclose information to the Office of Personnel Management, Merit Systems Protection Board, the Office of Special Counsel, or the Equal Employment Opportunity Commission when the records are relevant and necessary to resolving personnel, discrimination, or labor management matters within the jurisdiction of these offices.

(8) Disclose information to the Federal Labor Relations Authority, including the Office of the General Counsel of that authority, the Federal Service Impasses Board, or the Federal Mediation and Conciliation Service when the records are relevant and necessary to resolving any labor management matter within the jurisdiction of these offices.

(9) Disclose information to the Office of Government Ethics when the records are relevant and necessary to resolving any conflict of interest, conduct, financial statement reporting, or other ethics matter within the jurisdiction of that office.

Policies and Practices for Storing, Retrieving, Accessing, Retaining, and Disposing of Records in the System: Storage:

Paper records and machine-readable media.

Retrievability:

Records are retrieved by the name of the employee to whom they apply.

Safeguards:

Safeguard access controls will not be less than those provided for by IRM 25.10.1, Information Technology Security Policy and Guidance, and IRM 1.16, Manager's Security Handbook.

Retention and Disposal:

Record retention will be established in accordance with 36 CFR, Chapter XII—National Archives and Records Administration, Part 1228, Subpart B—Scheduling Records. Audio recordings and captured computer screen images will be kept long enough for managerial review and feedback, and for quality review purposes, generally not more than 45 days. However, the agency may keep audio recordings and captured computer screen images for a longer period under certain circumstances, including, but not limited to, resolution of matters pertaining to poor employee performance, security (threat, altercation, etc.), or conduct-related issues.

System Manager and Address:

Commissioner, Wage and Investment Division, 401 West Peachtree Street Northwest, Stop 11-WI, Atlanta, GA 30308, (404) 338-7060 (not a toll free number).

Notification Procedure:

Individuals seeking to determine if this system of records contains a record pertaining to themselves may inquire in accordance with instructions appearing at 31 CFR Part 1, Subpart C, Appendix B. Inquiries should be addressed to the system manager address listed above.

Record Access Procedures:

Individuals seeking access to any record contained in this system of records, or seeking to contest its contents, may inquire in accordance with instructions appearing at 31 CFR Part 1, Subpart C, Appendix B. Inquiries should be addressed to the system manager at the address listed above.

Contesting Record Procedures:

See “Record Access Procedures” above for seeking amendment of records that are not tax records.

Record Source Categories:

Taxpayers, Employees, IRS records of taxpayer accounts.

Exemptions Claimed For The System:

None.

[FR Doc. 05-3474 Filed 2-23-05; 8:45 am]

BILLING CODE 4830-01-U